DEPARTMENT OF COMMERCE

International Trade Administration

[A-588-851]

Certain Small Diameter Carbon and Alloy Seamless Standard, Line and Pressure Pipe (Under 4½ Inches) From Japan: Rescission of Antidumping Duty Administrative Review

AGENCY: Import Administration, International Trade Administration, Department of Commerce.

DATES: Effective Date: September 27, 2012.

FOR FURTHER INFORMATION CONTACT: Joshua Morris or Tyson Smith, AD/CVD Operations, Office 1, Import Administration, International Trade Administration, U.S. Department of Commerce, 14th Street and Constitution Avenue NW., Washington, DC 20230; telephone: (202) 482-1779 or (202) 482-2044, respectively.

Background

On July 31, 2012, the Department published a notice of initiation of an antidumping duty administrative review of the antidumping order on certain small diameter carbon and alloy seamless standard, line and pressure pipe (under 4½ inches) (hereinafter, “small diameter pipe”) from Japan for the period of June 1, 2011, through May 31, 2012. The review covered Canadian Natural Resources Ltd. (“CNRL), a Canadian exporter of small diameter pipe, which had requested an administrative review of itself.¹

¹ See Initiation of Antidumping and Countervailing Duty Administrative Reviews and Request for Revocation in Part, 77 FR 45338 (July 31, 2012).

Rescission of Administrative Review

Pursuant to 19 CFR 351.213(d)(1), the Secretary will rescind an administrative review, in whole or in part, if the party that requested the review withdraws the request within 90 days of the date of publication of the notice of initiation of the requested review. On August 30, 2012, CNRL withdrew its request for review within the 90-day period. No other party requested a review and, therefore, the Department is rescinding this administrative review.

Assessment

The Department will instruct U.S. Customs and Border Protection (“CBP”) to assess antidumping duties on all appropriate entries. For CNRL, antidumping duties shall be assessed at rates equal to the cash deposit rate in effect on the date of entry, or withdrawal from warehouse, for consumption, in accordance with 19 CFR 351.212(c)(1)(i). The Department intends to issue appropriate assessment instructions to CBP 15 days after publication of this notice of rescission of administrative review.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with sections 751(a)(1) and 777(i)(1) of the Tariff Act of 1930, as amended, and 19 CFR 351.213(d)(4).

Dated: September 20, 2012.
Christian Marsh,
Deputy Assistant Secretary for Antidumping and Countervailing Duty Operations.

[FR Doc. 2012-23835 Filed 9-26-12; 8:45 am]

BILLING CODE 3510-DS-P